DEPARTMENT OF TRANSPORTATION

Federal Aviation Administration

14 CFR Part 97

[Docket No. 30893; Amdt. No. 3528]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 10, 2013. The compliance date for each SIAP, associated Takeoff Minimums, and ODP is specified in the amendatory provisions.

The incorporation by reference of certain publications listed in the regulations is approved by the Director of the Federal Register as of April 10, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR part 97:

Air Traffic Control, Airports, Incorporation by reference, and Navigation (Air).

Issued in Washington, DC on March 29, 2013.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 2 May 2013

Novato, CA, Gnoss Field, Takeoff Minimums and Obstacle DP, Amdt 2

Fort Lauderdale, FL, Fort Lauderdale/Hollywood Intl, LOC/DME RWY 13, Amdt 1, CANCELED

Fort Lauderdale, FL, Fort Lauderdale/Hollywood Intl, RNAV (GPS) RWY 13, Amdt 2, CANCELED

Fort Lauderdale, FL, Fort Lauderdale/Hollywood Intl, RNAV (GPS) RWY 31, Amdt 2, CANCELED

Fort Lauderdale, FL, Fort Lauderdale/Hollywood Intl, RNAV (GPS) Y RWY 28R, Amdt 3

Fort Lauderdale, FL, Fort Lauderdale/Hollywood Intl, RNAV (GPS) Z RWY 10L, Amdt 3

Fort Lauderdale, FL, Fort Lauderdale/Hollywood Intl, RNAV (RNP) Y RWY 10L, Amdt 1

Fort Lauderdale, FL, Fort Lauderdale/Hollywood Intl, RNAV (RNP) Z RWY 28R, Amdt 1

Fort Lauderdale, FL, Fort Lauderdale/Hollywood Intl, Takeoff Minimums and Obstacle DP, Amdt 5

Sebring, FL, Sebring Rgnl, RNAV (GPS) RWY 1, Amdt 1

Sebring, FL, Sebring Rgnl, RNAV (GPS) Y RWY 36, Orig, CANCELED

Sebring, FL, Sebring Rgnl, Takeoff Minimums and Obstacle DP, Amdt 1

Stuart, FL, Witham Field, RNAV (GPS) RWY 12, Amdt 1

Stuart, FL, Witham Field, RNAV (GPS) RWY 30, Amdt 1

Atlanta, GA, Hartsfield—Jackson Atlanta Intl, ILS OR LOC RWY 8L, ILS RWY 8L (SA CAT I), ILS RWY 8L (CAT II), ILS RWY 8L (CAT III), Amdt 4

Atlanta, GA, Hartsfield—Jackson Atlanta Intl, ILS OR LOC RWY 8R, Amdt 60

Atlanta, GA, Hartsfield—Jackson Atlanta Intl, ILS OR LOC RWY 9L, Amdt 9

Atlanta, GA, Hartsfield—Jackson Atlanta Intl, ILS OR LOC RWY 9R, ILS RWY 9R (SA CAT I), ILS RWY 9R (CAT II), ILS RWY 9R (CAT III), Amdt 18

Atlanta, GA, Hartsfield—Jackson Atlanta Intl, ILS OR LOC RWY 10, ILS RWY 10 (SA CAT I), ILS RWY 10 (CAT II), ILS RWY 10 (CAT III), Amdt 3

Atlanta, GA, Hartsfield—Jackson Atlanta Intl, ILS OR LOC RWY 26L, Amdt 20

Atlanta, GA, Hartsfield—Jackson Atlanta Intl, ILS OR LOC RWY 26R, ILS RWY 26R (SA CAT I), ILS RWY 26R (SA CAT II), Amdt 6

Atlanta, GA, Hartsfield—Jackson Atlanta Intl, ILS OR LOC RWY 27L, ILS RWY 27L (SA CAT I), ILS RWY 27L (CAT II), Amdt 17

Atlanta, GA, Hartsfield—Jackson Atlanta Intl, ILS OR LOC RWY 27R, Amdt 5

Atlanta, GA, Hartsfield—Jackson Atlanta Intl, ILS OR LOC RWY 28, ILS RWY 28 (SA CAT I), ILS RWY 28 (CAT II), Amdt 3

Atlanta, GA, Hartsfield—Jackson Atlanta Intl, ILS PRM RWY 8L, ILS PRM RWY 8L (SA CAT I), ILS PRM RWY 8L (CAT II), ILS PRM RWY 8L (CAT III) (SIMULTANEOUS CLOSE PARALLEL), Amdt 1

Atlanta, GA, Hartsfield—Jackson Atlanta Intl, ILS PRM RWY 8R (SIMULTANEOUS CLOSE PARALLEL), Amdt 1

Atlanta, GA, Hartsfield—Jackson Atlanta Intl, ILS PRM RWY 9L (SIMULTANEOUS CLOSE PARALLEL), Amdt 1

Atlanta, GA, Hartsfield—Jackson Atlanta Intl, ILS PRM RWY 9R, ILS PRM RWY 9R (SA CAT I), ILS PRM RWY 9R (CAT II), ILS PRM RWY 9R (CAT III) (SIMULTANEOUS CLOSE PARALLEL), Amdt 1

Atlanta, GA, Hartsfield—Jackson Atlanta Intl, ILS PRM RWY 10, ILS PRM RWY 10 (SA CAT I), ILS PRM RWY 10 (CAT II), ILS PRM RWY 10 (CAT III) (SIMULTANEOUS CLOSE PARALLEL), Amdt 3

Atlanta, GA, Hartsfield—Jackson Atlanta Intl, ILS PRM RWY 26L (SIMULTANEOUS CLOSE PARALLEL), Amdt 1

Atlanta, GA, Hartsfield—Jackson Atlanta Intl, ILS PRM RWY 26R, ILS PRM RWY 26R (SA CAT I), ILS PRM RWY 26R (SA CAT II) (SIMULTANEOUS CLOSE PARALLEL), Amdt 2

Atlanta, GA, Hartsfield—Jackson Atlanta Intl, ILS PRM RWY 27L, ILS PRM RWY 27L (SA CAT I), ILS PRM RWY 27L (CAT II) (SIMULTANEOUS CLOSE PARALLEL), Amdt 2

Atlanta, GA, Hartsfield—Jackson Atlanta Intl, ILS PRM RWY 27R (SIMULTANEOUS CLOSE PARALLEL), Amdt 1

Atlanta, GA, Hartsfield—Jackson Atlanta Intl, ILS PRM RWY 28, ILS PRM RWY 28 (SA CAT I), ILS PRM RWY 28 (CAT II) (SIMULTANEOUS CLOSE PARALLEL), Amdt 3

Atlanta, GA, Hartsfield—Jackson Atlanta Intl, RNAV (GPS) Y RWY 8R, Amdt 3

Atlanta, GA, Hartsfield—Jackson Atlanta Intl, RNAV (GPS) Y RWY 9L, Amdt 3

Atlanta, GA, Hartsfield—Jackson Atlanta Intl, RNAV (GPS) Y RWY 9R, Amdt 3

Atlanta, GA, Hartsfield—Jackson Atlanta Intl, RNAV (GPS) Y RWY 10, Amdt 3

Atlanta, GA, Hartsfield—Jackson Atlanta Intl, RNAV (GPS) Y RWY 26L, Amdt 3

Atlanta, GA, Hartsfield—Jackson Atlanta Intl, RNAV (GPS) Y RWY 26R, Amdt 3

Atlanta, GA, Hartsfield—Jackson Atlanta Intl, RNAV (GPS) Y RWY 27L, Amdt 4

Atlanta, GA, Hartsfield—Jackson Atlanta Intl, RNAV (GPS) Y RWY 27R, Amdt 3

Atlanta, GA, Hartsfield—Jackson Atlanta Intl, RNAV (GPS) Y RWY 28, Amdt 3

Coeur D'Alene, ID, Coeur D'Alene—Pappy Boyington Field, RNAV (GPS) RWY 6, Orig-B

Chicago, IL, Chicago O'Hare Intl, ILS OR LOC RWY 9L, ILS RWY 9L (SA CAT I), ILS RWY 9L (CAT II), ILS RWY 9L (CAT III), Amdt 2

Chicago, IL, Chicago O'Hare Intl, ILS OR LOC RWY 9R, Amdt 10

Chicago, IL, Chicago O'Hare Intl, ILS OR LOC RWY 10L, ILS RWY 10L (SA CAT I), ILS RWY 10L (CAT II), ILS RWY 10L (CAT III), Amdt 17

Chicago, IL, Chicago O'Hare Intl, ILS OR LOC RWY 27L, ILS RWY 27L (SA CAT I), ILS RWY 27L (CAT II), ILS RWY 27L (CAT III), Amdt 29

Chicago, IL, Chicago O'Hare Intl, ILS OR LOC RWY 27R, ILS RWY 27R (SA CAT I), ILS RWY 27R (CAT II), ILS RWY 27R (CAT III), Amdt 2

Chicago, IL, Chicago O'Hare Intl, ILS OR LOC RWY 28R, ILS RWY 28R (SA CAT I), ILS RWY 28R (CAT II), ILS RWY 28R (CAT III), Amdt 16

Chicago, IL, Chicago O'Hare Intl, RNAV (GPS) RWY 9L, Amdt 2

Chicago, IL, Chicago O'Hare Intl, RNAV (GPS) RWY 9R, Amdt 3

Chicago, IL, Chicago O'Hare Intl, RNAV (GPS) RWY 10L, Amdt 4

Chicago, IL, Chicago O'Hare Intl, RNAV (GPS) RWY 27L, Amdt 3

Chicago, IL, Chicago O'Hare Intl, RNAV (GPS) RWY 27R, Amdt 2

Chicago, IL, Chicago O'Hare Intl, RNAV (GPS) RWY 28R, Amdt 3

Kankakee, IL, Greater Kankakee, ILS OR LOC RWY 4, Amdt 7

Kankakee, IL, Greater Kankakee, RNAV (GPS) RWY 4, Amdt 1

Kankakee, IL, Greater Kankakee, RNAV (GPS) RWY 16, Amdt 1

Kankakee, IL, Greater Kankakee, RNAV (GPS) RWY 22, Amdt 1

Kankakee, IL, Greater Kankakee, RNAV (GPS) RWY 34, Amdt 1

Kankakee, IL, Greater Kankakee, Takeoff Minimums and Obstacle DP, Amdt 1

Kankakee, IL, Greater Kankakee, VOR RWY 4, Amdt 6A

Kankakee, IL, Greater Kankakee, VOR RWY 22, Amdt 7B

Lafayette, LA, Lafayette Rgnl, ILS OR LOC RWY 22L, Amdt 5

Lafayette, LA, Lafayette Rgnl, RNAV (GPS) RWY 22L, Amdt 1

Great Barrington, MA, Walter J. Koladza, Takeoff Minimums and Obstacle DP, Amdt 3

Romeo, MI, Romeo State, RNAV (GPS) RWY 18, Amdt 1

Romeo, MI, Romeo State, RNAV (GPS) RWY 36, Amdt 1

Romeo, MI, Romeo State, Takeoff Minimums and Obstacle DP, Amdt 5

Minneapolis, MN, Minneapolis-St Paul Intl/Wold-Chamberlain, CONVERGING ILS RWY 30L, Amdt 1

Minneapolis, MN, Minneapolis-St Paul Intl/Wold-Chamberlain, CONVERGING ILS RWY 30R, Amdt 2

Minneapolis, MN, Minneapolis-St Paul Intl/Wold-Chamberlain, CONVERGING ILS RWY 35, Amdt 3

Minneapolis, MN, Minneapolis-St Paul Intl/Wold-Chamberlain, ILS OR LOC RWY 12L, ILS RWY 12L (SA CAT I), ILS RWY 12L (CAT II), ILS RWY 12L (CAT III), Amdt 9

Minneapolis, MN, Minneapolis-St Paul Intl/Wold-Chamberlain, ILS OR LOC RWY 12R, ILS RWY 12R (SA CAT I), ILS RWY 12R (CAT II), ILS RWY 12R (CAT III), Amdt 10

Minneapolis, MN, Minneapolis-St Paul Intl/Wold-Chamberlain, ILS OR LOC RWY 30L, ILS RWY 30L (SA CAT I), ILS RWY 30L (CAT II), Amdt 45

Minneapolis, MN, Minneapolis-St Paul Intl/Wold-Chamberlain, ILS OR LOC RWY 30R, Amdt 14

Minneapolis, MN, Minneapolis-St Paul Intl/Wold-Chamberlain, ILS OR LOC RWY 35, ILS RWY 35 (SA CAT I), ILS RWY 35 (CAT II), ILS RWY 35 (CAT III), Amdt 3

Minneapolis, MN, Minneapolis-St Paul Intl/Wold-Chamberlain, LOC RWY 4, Amdt 1A

Minneapolis, MN, Minneapolis-St Paul Intl/Wold-Chamberlain, LOC RWY 17, Amdt 1A

Minneapolis, MN, Minneapolis-St Paul Intl/Wold-Chamberlain, LOC RWY 22, Amdt 1A

Minneapolis, MN, Minneapolis-St Paul Intl/Wold-Chamberlain, RNAV (GPS) RWY 4, Amdt 2

Minneapolis, MN, Minneapolis-St Paul Intl/Wold-Chamberlain, RNAV (GPS) RWY 12L, Amdt 3

Minneapolis, MN, Minneapolis-St Paul Intl/Wold-Chamberlain, RNAV (GPS) RWY 12R, Amdt 2

Minneapolis, MN, Minneapolis-St Paul Intl/Wold-Chamberlain, RNAV (GPS) RWY 22, Amdt 1A

Minneapolis, MN, Minneapolis-St Paul Intl/Wold-Chamberlain, RNAV (GPS) RWY 30L, Amdt 3

Minneapolis, MN, Minneapolis-St Paul Intl/Wold-Chamberlain, RNAV (GPS) RWY 30R, Amdt 2

Minneapolis, MN, Minneapolis-St Paul Intl/Wold-Chamberlain, RNAV (GPS) Z RWY 35, Amdt 2

New Ulm, MN, New Ulm Muni, NDB RWY 15, Amdt 2

New Ulm, MN, New Ulm Muni, NDB RWY 33, Amdt 2

New Ulm, MN, New Ulm Muni, RNAV (GPS) RWY 15, Orig

New Ulm, MN, New Ulm Muni, RNAV (GPS) RWY 33, Orig

New Ulm, MN, New Ulm Muni, Takeoff Minimums and Obstacle DP, Orig

Gideon, MO, Gideon Memorial, RNAV (GPS) RWY 15, Orig

Gideon, MO, Gideon Memorial, RNAV (GPS) RWY 33, Orig

Gideon, MO, Gideon Memorial, Takeoff Minimums and Obstacle DP, Orig

Gideon, MO, Gideon Memorial, VOR RWY 15, Amdt 3

Grenada, MS, Grenada Muni, RNAV (GPS) RWY 4, Amdt 1

Grenada, MS, Grenada Muni, RNAV (GPS) RWY 13, Amdt 1

Grenada, MS, Grenada Muni, RNAV (GPS) RWY 22, Amdt 1

Grenada, MS, Grenada Muni, RNAV (GPS) RWY 31, Amdt 1

Grenada, MS, Grenada Muni, Takeoff Minimums and Obstacle DP, Amdt 2

Beaufort, NC, Michael J. Smith Field, LOC RWY 26, Amdt 2, CANCELED

Beaufort, NC, Michael J. Smith Field, NDB RWY 21, Amdt 2

Beaufort, NC, Michael J. Smith Field, RNAV (GPS) RWY 3, Amdt 2

Beaufort, NC, Michael J. Smith Field, RNAV (GPS) RWY 21, Amdt 2

Beaufort, NC, Michael J. Smith Field, RNAV (GPS) RWY 26, Amdt 2

Beaufort, NC, Michael J. Smith Field, Takeoff Minimums and Obstacle DP, Amdt 4

Newark, NJ, Newark Liberty Intl, ILS OR LOC RWY 22L, ILS RWY 22L (SA CAT I), ILS RWY 22L (CAT II), ILS RWY 22L (CAT III), Amdt 13

Newburgh, NY, Stewart Intl, ILS OR LOC RWY 9, ILS RWY 9 (SA CAT I), ILS RWY 9 (CAT II), ILS RWY 9 (CAT III), Amdt 13

Hazleton, PA, Hazleton Muni, LOC RWY 28, Amdt 6

Hazleton, PA, Hazleton Muni, RNAV (GPS) RWY 10, Amdt 1

Hazleton, PA, Hazleton Muni, RNAV (GPS) RWY 28, Orig

Hazleton, PA, Hazleton Muni, Takeoff Minimums and Obstacle DP, Amdt 2

Hazleton, PA, Hazleton Muni, VOR RWY 10, Amdt 11

Hazleton, PA, Hazleton Muni, VOR RWY 28, Amdt 9

Amarillo, TX, Tradewind, GPS RWY 35, Orig-B, CANCELED

Amarillo, TX, Tradewind, RNAV (GPS) RWY 35, Orig

Childress, TX, Childress Muni, RNAV (GPS) RWY 36, Amdt 1

Dallas-Fort Worth, TX, Dallas/Fort Worth Intl, CONVERGING ILS RWY 13R, Amdt 7

Dallas-Fort Worth, TX, Dallas/Fort Worth Intl, CONVERGING ILS RWY 17R, Amdt 9

Dallas-Fort Worth, TX, Dallas/Fort Worth Intl, CONVERGING ILS RWY 18L, Amdt 2

Dallas-Fort Worth, TX, Dallas/Fort Worth Intl, CONVERGING ILS RWY 18R, Amdt 6

Dallas-Fort Worth, TX, Dallas/Fort Worth Intl, CONVERGING ILS RWY 31R, Amdt 8

Dallas-Fort Worth, TX, Dallas/Fort Worth Intl, CONVERGING ILS RWY 35L, Amdt 4

Dallas-Fort Worth, TX, Dallas/Fort Worth Intl, CONVERGING ILS RWY 36L, Amdt 2

Dallas-Fort Worth, TX, Dallas/Fort Worth Intl, CONVERGING ILS RWY 36R, Amdt 3

Dallas-Fort Worth, TX, Dallas/Fort Worth Intl, ILS OR LOC RWY 17C, ILS RWY 17C (CAT II), ILS RWY 17C (CAT III), ILS RWY 17C (SA CAT I), Amdt 10

Dallas-Fort Worth, TX, Dallas/Fort Worth Intl, ILS OR LOC RWY 17L, ILS RWY 17L (SA CAT I), ILS RWY 17L (CAT II), ILS RWY 17L (CAT III), Amdt 6

Dallas-Fort Worth, TX, Dallas/Fort Worth Intl, ILS OR LOC RWY 17R, ILS RWY 17R (SA CAT I), ILS RWY 17R (SA CAT II), Amdt 23

Dallas-Fort Worth, TX, Dallas/Fort Worth Intl, ILS OR LOC RWY 18L, Amdt 2

Dallas-Fort Worth, TX, Dallas/Fort Worth Intl, ILS OR LOC RWY 18R, ILS RWY 18R (SA CAT I), ILS RWY 18R (CAT II), ILS RWY 18R (CAT III), Amdt 8

Dallas-Fort Worth, TX, Dallas/Fort Worth Intl, ILS OR LOC RWY 31R, Amdt 14

Dallas-Fort Worth, TX, Dallas/Fort Worth Intl, ILS OR LOC RWY 35L, Amdt 5

Dallas-Fort Worth, TX, Dallas/Fort Worth Intl, ILS OR LOC RWY 35R, ILS RWY 35R (SA CAT I), ILS RWY 35R (CAT II), ILS RWY 35R (CAT III), Amdt 4

Dallas-Fort Worth, TX, Dallas/Fort Worth Intl, ILS OR LOC RWY 36L, Amdt 2

Dallas-Fort Worth, TX, Dallas/Fort Worth Intl, ILS OR LOC RWY 36R, Amdt 5

Dallas-Fort Worth, TX, Dallas/Fort Worth Intl, RNAV (GPS) RWY 17C, Amdt 2

Dallas-Fort Worth, TX, Dallas/Fort Worth Intl, RNAV (GPS) RWY 17L, Amdt 4

Dallas-Fort Worth, TX, Dallas/Fort Worth Intl, RNAV (GPS) RWY 17R, Amdt 2

Dallas-Fort Worth, TX, Dallas/Fort Worth Intl, RNAV (GPS) RWY 18L, Amdt 1

Dallas-Fort Worth, TX, Dallas/Fort Worth Intl, RNAV (GPS) RWY 18R, Amdt 1

Dallas-Fort Worth, TX, Dallas/Fort Worth Intl, RNAV (GPS) RWY 35L, Amdt 2

Dallas-Fort Worth, TX, Dallas/Fort Worth Intl, RNAV (GPS) RWY 35R, Amdt 3

Dallas-Fort Worth, TX, Dallas/Fort Worth Intl, RNAV (GPS) RWY 36L, Amdt 3

Dallas-Fort Worth, TX, Dallas/Fort Worth Intl, RNAV (GPS) RWY 36R, Amdt 3

Dallas-Fort Worth, TX, Dallas/Fort Worth Intl, RNAV (GPS) Y RWY 13R, Amdt 2

Dallas-Fort Worth, TX, Dallas/Fort Worth Intl, RNAV (GPS) Y RWY 31L, Amdt 1

Dallas-Fort Worth, TX, Dallas/Fort Worth Intl, RNAV (GPS) Y RWY 31R, Amdt 2

Dallas-Fort Worth, TX, Dallas/Fort Worth Intl, RNAV (RNP) Z RWY 13R, Amdt 1

Dallas-Fort Worth, TX, Dallas/Fort Worth Intl, RNAV (RNP) Z RWY 31L, Amdt 1

Dallas-Fort Worth, TX, Dallas/Fort Worth Intl, RNAV (RNP) Z RWY 31R, Amdt 2

Dallas-Fort Worth, TX, Dallas/Fort Worth Intl, VOR RWY 13R, Amdt 1B

Dallas-Fort Worth, TX, Dallas/Fort Worth Intl, VOR RWY 31L, Orig-B

Levelland, TX, Levelland Muni, RNAV (GPS) RWY 17, Amdt 1

Levelland, TX, Levelland Muni, RNAV (GPS) RWY 35, Amdt 1

Waco, TX, TSTC Waco, ILS OR LOC RWY 17L, Amdt 13

Waco, TX, TSTC Waco, RNAV (GPS) RWY 17L, Amdt 1

Waco, TX, TSTC Waco, RNAV (GPS) RWY 35R, Amdt 1

Wink, TX, Winkler County, RNAV (GPS) RWY 13, Amdt 1

Wink, TX, Winkler County, RNAV (GPS) RWY 31, Amdt 1

Richmond, VA, Richmond Executive-Chesterfield County, Takeoff Minimums and Obstacle DP, Amdt 4

Pullman/Moscow, ID, WA, Pullman/Moscow Rgnl, RNAV (GPS) Y RWY 6, Amdt 2A

Pullman/Moscow, ID, WA, Pullman/Moscow Rgnl, RNAV (RNP) Z RWY 6, Orig

Ashland, WI, John F Kennedy Memorial, RNAV (GPS) RWY 2, Amdt 1

Ashland, WI, John F Kennedy Memorial, RNAV (GPS) RWY 13, Amdt 1

Ashland, WI, John F Kennedy Memorial, RNAV (GPS) RWY 20, Amdt 1

Ashland, WI, John F Kennedy Memorial, RNAV (GPS) RWY 31, Amdt 1

Ashland, WI, John F Kennedy Memorial, VOR RWY 2, Amdt 6, CANCELED

Ashland, WI, John F Kennedy Memorial, VOR RWY 31, Amdt 7, CANCELED

Rescinded

On March 4, 2013 (77 FR 14011), the FAA published an Amendment in Docket No. 30887, Amdt No. 3522 to Part 97 of the Federal Aviation Regulations under section 97.33. The following entry for Fort Myers, FL, effective 2 May 2013 is hereby rescinded in its entirety:

Fort Myers, FL, Southwest Florida Intl, RNAV (GPS) RWY 24, Amdt 2

[FR Doc. 2013-08082 Filed 4-9-13; 8:45 am]

BILLING CODE 4910-13-P